SECURITIES AND EXCHANGE COMMISSION

[File No. 1-10645]

Issuer Delisting; Notice of Application of Michael Anthony Jewelers, Inc. To Withdraw Its Common Stock, $.001 Par Value, From Listing and Registration on the American Stock Exchange LLC

January 23, 2004.

Michael Anthony Jewelers, Inc., a Delaware corporation (“Issuer”), has filed an application with the Securities and Exchange Commission (“Commission”), pursuant to Section 12(d) of the Securities Exchange Act of 1934 (“Act”) ¹ and Rule 12d2-2(d) thereunder,² to withdraw its Common Stock, $.001 par value (“Security”), from listing and registration on the American Stock Exchange LLC (“Amex” or “Exchange”).

¹ 15 U.S.C. 78l(d).

² 17 CFR 240.12d2-2(d).

The Board of Directors of the Issuer unanimously approved a resolution on January 12, 2004 to withdraw the Issuer's Security from listing on the Amex. The Issuer states that the following primary reasons factored into its decision to withdraw the Security: (i) The dramatically increasing costs, both direct and indirect, associated with the preparation and filing of the Issuer's periodic reports with the Commission; (ii) the expected substantial increase in costs associated with being a public company in light of the new regulations promulgated as a result of the Sarbanes-Oxley Act of 2002; (iii) the Issuer has fewer than 300 registered stockholders and is, therefore, eligible to suspend its reporting obligations with the Commission; (iv) the lack of analyst coverage and minimal liquidity in trading of the Security; and (v) the benefits to the Issuer and its stockholders in maintaining its listing and registration are outweighed by the costs of maintaining such listing and registration.

The Issuer stated in its application that it has met the requirements of Amex Rule l8 by complying with all applicable laws in the State of Delaware, in which it is incorporated, and with the Amex's rules governing an issuer's voluntary withdrawal of a security from listing and registration.

The Issuer's application relates solely to the withdrawal of the Securities from listing on the Amex and from registration under section 12(b) of the Act ³ shall not affect its obligation to be registered under section 12(g) of the Act.⁴

³ 15 U.S.C. 78l(b).

⁴ 15 U.S.C. 78l(g).

Any interested person may, on or before February 17, 2004, submit by letter to the Secretary of the Securities and Exchange Commission, 450 Fifth Street, NW., Washington, DC 20549-0609, facts bearing upon whether the application has been made in accordance with the rules of the Amex and what terms, if any, should be imposed by the Commission for the protection of investors. All comment letters should refer to File No. 1-10645. The Commission, based on the information submitted to it, will issue an order granting the application after the date mentioned above, unless the Commission determines to order a hearing on the matter.

For the Commission, by the Division of Market Regulation, pursuant to delegated authority. ⁵
⁵ 17 CFR 200.30-3(a)(1).
Jonathan G. Katz,
Secretary.

[FR Doc. 04-1889 Filed 1-28-04; 8:45 am]

BILLING CODE 8010-01-P